DEPARTMENT OF THE INTERIOR

Bureau of Indian Affairs

[167A2100DD/AAKC001030/A0A501010.999900 253G]

25 CFR Part 20

RIN 1076-AF29

Financial Assistance and Social Services Programs; Burial Assistance

AGENCY: Bureau of Indian Affairs, Interior.

ACTION: Interim final rule with request for comments.

SUMMARY: Current regulations allow for burial assistance for eligible indigent Indians but require submission of the application within 30 days of the Indian's death. This rule would extend the deadline for filing an application to 180 days to address hardships resulting from the current short timeframe.

DATES: Comments on this rule must be received by March 31, 2016. This rule will become effective without further action on April 15, 2016.

ADDRESSES: You may submit comments by any of the following methods:

—Federal rulemaking portal: http://www.regulations.gov. The rule is listed under the agency name “Bureau of Indian Affairs (BIA).” The rule has been assigned Docket ID: BIA-2015-0003.

—Email: elizabeth.appel@bia.gov. Include the number 1076-AF29 in the subject line of the message.

—Mail or hand-delivery: Elizabeth K. Appel, Director, Office of Regulatory Affairs & Collaborative Action—Indian Affairs, U.S. Department of the Interior, 1849 C Street NW., MS 3642, Washington, DC 20240. Include the number 1076-AF29 on the outside of the envelope.

We cannot ensure that comments received after the close of the comment period (see DATES) will be included in the docket for this rulemaking and considered. Comments sent to an address other than those listed above will not be included in the docket for this rulemaking.

FOR FURTHER INFORMATION CONTACT: Elizabeth Appel, Director, Office of Regulatory Affairs and Collaborative Action, Office of the Assistant Secretary—Indian Affairs; telephone (202) 273-4680, elizabeth.appel@bia.gov.

SUPPLEMENTARY INFORMATION:

I. Background

II. Description of Changes

III. Procedural Requirements

A. Regulatory Planning and Review (E.O. 12866)

B. Regulatory Flexibility Act

C. Small Business Regulatory Enforcement Fairness Act

D. Unfunded Mandates Reform Act

E. Takings (E.O. 12630)

F. Federalism (E.O. 13132)

G. Civil Justice Reform (E.O. 12988)

H. Consultation With Indian Tribes (E.O. 13175)

I. Paperwork Reduction Act

J. National Environmental Policy Act

K. Information Quality Act

L. Effects on the Energy Supply (E.O. 13211)

M. Clarity of This Regulation

N. Public Availability of Comments

O. Required Determinations Under the Administrative Procedure Act

I. Background

The BIA provides financial assistance and social services to eligible Indians when comparable financial assistance or social services are either not available or not provided by State, Tribal, county, local or other Federal agencies. See 25 CFR 20.102. One type of financial assistance BIA provides under these regulations is burial assistance. See 25 CFR 20.324-20.326. The current regulations provide that a relative of a deceased Indian can apply for burial assistance for the deceased Indian but must submit the application within 30 days following death.

II. Description of Changes

This interim final rule extends the deadline by which a relative of a deceased Indian can apply for burial assistance for the deceased Indian from 30 days following death to 180 days following death. For many families, periods of bereavement and counseling do not fit within the short 30-day timeframe, and eligible applicants often do not seek out such resources or become aware of the burial assistance funds until weeks after their loss. The 30-day time restriction also creates barriers to eligible applicants dealing with other extenuating circumstances, such as delays in funeral billing and the processing of death certificates, which frequently exceed 30 days. This rule addresses these hardships by replacing the 30-day deadline with a more reasonable 180-day deadline.

III. Procedural Requirements

A. Regulatory Planning and Review (E.O. 12866)

This interim final rule is not a significant rule and the Office of Management and Budget has not reviewed this rule under Executive Order 12866. This rule extends the deadline for requesting burial assistance funds but does not affect eligibility for such funds in any way.

(1) This rule will not have an effect of $100 million or more on the economy or adversely affect in a material way the economy, productivity, competition, jobs, the environment, public health or safety, or State, local, or tribal governments or communities. The deadline extension may result in additional expenditures by the Federal Government for burial assistance but will not affect the economy as a whole.

(2) This rule will not create a serious inconsistency or otherwise interfere with an action taken or planned by another agency because the existing eligibility requirements ensure there is no duplication of services by different agencies.

(3) This rule does not involve entitlements, grants, user fees, or loan programs or the rights or obligations of recipients. The rule extends the time period in which an eligible applicant may request burial assistance but does not otherwise affect the applicant's rights or obligations.

(4) These regulatory changes do not raise novel legal or policy issues because they do not substantively change the financial assistance or social services programs.

B. Regulatory Flexibility Act

The Department of the Interior certifies that this document will not have a significant economic effect on a substantial number of small entities under the Regulatory Flexibility Act (5 U.S.C. 601 et seq.). It does not change current funding requirements or regulate small entities.

C. Small Business Regulatory Enforcement Fairness Act

This interim final rule is not a major rule under 5 U.S.C. 804(2), the Small Business Regulatory Enforcement Fairness Act. It will not result in the expenditure by State, local, or Tribal governments, in the aggregate, or by the private sector of $100 million or more in any one year. The rule will not result in a major increase in costs or prices for consumers, individual industries, Federal, State, or local government agencies, or geographic regions. Nor will this rule have significant adverse effects on competition, employment, investment, productivity, innovation, or the ability of the U.S.-based enterprises to compete with foreign-based enterprises. This rule extends the deadline for requesting burial assistance funds but does not result in expenditures by any entity other than the Federal Government.

D. Unfunded Mandates Reform Act

This interim final rule does not impose an unfunded mandate on State, local, or tribal governments or the private sector of more than $100 million per year. The rule does not have a significant or unique effect on State, local, or tribal governments or the private sector. A statement containing the information required by the Unfunded Mandates Reform Act (2 U.S.C. 1531 et seq.) is not required.

E. Takings (E.O. 12630)

Under the criteria in Executive Order 12630, this interim final rule does not affect individual property rights protected by the Fifth Amendment nor does it involve a compensable “taking.” A takings implication assessment is not required.

F. Federalism (E.O. 13132)

Under the criteria in Executive Order 13132, this interim final rule has no substantial direct effect on the States, on the relationship between the national government and the States, or on the distribution of power and responsibilities among the various levels of government. This rule extends the deadline for requesting burial assistance funds but does not affect States or the relationship with States in any way.

G. Civil Justice Reform (E.O. 12988)

This interim final rule complies with the requirements of Executive Order 12988. Specifically, this rule has been reviewed to eliminate errors and ambiguity and written to minimize litigation; and is written in clear language and contains clear legal standards.

H. Consultation With Indian Tribes (E.O. 13175)

In accordance with the President's memorandum of April 29, 1994, “Government-to-Government Relations with Native American Tribal Governments,” Executive Order 13175 (59 FR 22951, November 6, 2000), and 512 DM 2, we have evaluated the potential effects on federally recognized Indian Tribes and Indian trust assets and have identified potential effects. The Department received input from at least one Tribe requesting the change effected by this rule.

I. Paperwork Reduction Act

This information collection for burial assistance is authorized by OMB Control Number 1076-0017, with an expiration of 06/30/2017. BIA will review whether its current estimates on the number of applications submitted annually when it next requests renewal to determine whether there is an increase as a result of this rule.

J. National Environmental Policy Act

This interim final rule does not constitute a major Federal action significantly affecting the quality of the human environment.

K. Information Quality Act

In developing this interim final rule we did not conduct or use a study, experiment, or survey requiring peer review under the Information Quality Act (Pub. L. 106-554).

L. Effects on the Energy Supply (E.O. 13211)

This interim final rule is not a significant energy action under the definition in Executive Order 13211. A Statement of Energy Effects is not required.

M. Clarity of This Regulation

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the “COMMENTS” section. To better help us revise the rule, your comments should be as specific as possible. For example, you should tell us the numbers of the sections or paragraphs that are unclearly written, which sections or sentences are too long, the sections where you believe lists or tables would be useful, etc.

N. Public Availability of Comments

Before including your address, phone number, email address, or other personal identifying information in your comment, you should be aware that your entire comment—including your personal identifying information—may be made publicly available at any time. While you can ask us in your comment to withhold your personal identifying information from public review, we cannot guarantee that we will be able to do so.

O. Required Determinations Under the Administrative Procedure Act

We are publishing this interim final rule with a request for comment without prior notice and comment, as allowed under 5 U.S.C. 553(b)(B). Under section 553(b)(B), we find that prior notice and comment are unnecessary because this is a minor, technical action that imposes an unnecessary burden on applicants. This rule reduces burden on eligible applicants by extending the time period in which a request for burial assistance may be submitted. Delay in publishing this rule would unnecessarily continue imposing a hardship on eligible applicants who have recently lost a relative. Delaying the rule by publication of a proposed rule would therefore be contrary to the public interest.

We have requested comments on this interim final rule. We will review any comments received and if we receive significant adverse comments, we will by a future publication in the Federal Register, either initiate a proposed rulemaking or revise or withdraw this rule.

List of Subjects in 25 CFR Part 20

Indians, Public assistance programs, Reporting and recordkeeping requirements.

For the reasons given in the preamble, the Department of the Interior amends 25 CFR part 20 as follows:

PART 20—FINANCIAL ASSISTANCE AND SOCIAL SERVICES PROGRAMS

1. The authority citation for part 20 continues to read as follows:

Authority: 25 U.S.C. 13; Pub. L. 93-638; Pub. L. 98-473; Pub. L. 102-477; Pub. L. 104-193; Pub. L. 105-83.

2. Revise paragraph (a) of § 20.325 to read as follows:

§ 20.325 Who can apply for Burial Assistance?

* * * * *

(a) To apply for burial assistance under this section, you must submit the application to the social services worker. You must submit this application within 180 days following death.

* * * * *

Dated: February 23, 2016.
Lawrence S. Roberts,
Acting Assistant Secretary—Indian Affairs.

[FR Doc. 2016-04335 Filed 2-29-16; 8:45 am]

BILLING CODE 4337-15-P